DEPARTMENT OF ENERGY

Federal Energy Regulatory Commission

Combined Notice of Filings #1

Take notice that the Commission received the following electric corporate filings:

Docket Numbers: EC23-124-000.

Applicants: Hoosier Wind Project, LLC, Indianapolis Power & Light Company.

Description: Joint Application for Authorization Under Section 203 of the Federal Power Act of Hoosier Wind Project, LLC, et al.

Filed Date: 8/23/23.

Accession Number: 20230823-5140.

Comment Date: 5 p.m. ET 9/13/23.

Docket Numbers: EC23-125-000.

Applicants: Cavalry Energy Center, LLC, Northern Indiana Public Service Company LLC.

Description: Joint Application for Authorization Under Section 203 of the Federal Power Act of Cavalry Energy Center, LLC, et al.

Filed Date: 8/24/23.

Accession Number: 20230824-5031.

Comment Date: 5 p.m. ET 9/14/23.

Take notice that the Commission received the following electric rate filings:

Docket Numbers: ER23-2228-001.

Applicants: Southwest Power Pool, Inc.

Description: Tariff Amendment: 1636R29 Kansas Electric Power Cooperative, Inc. NITSA NOA to be effective 9/1/2023.

Filed Date: 8/24/23.

Accession Number: 20230824-5119.

Comment Date: 5 p.m. ET 9/14/23.

Docket Numbers: ER23-2239-000.

Applicants: HQC Solar Holdings 1, LLC.

Description: Amendment to June 20, 2023, Petition for Limited Waiver of HQC Solar Holdings 1, LLC tariff filing.

Filed Date: 8/22/23.

Accession Number: 20230822-5182.

Comment Date: 5 p.m. ET 9/12/23.

Docket Numbers: ER23-2270-001.

Applicants: Southwest Power Pool, Inc.

Description: Tariff Amendment: 1977R19 Nemaha-Marshall Electric Cooperative NITSA and NOA to be effective 9/1/2023.

Filed Date: 8/24/23.

Accession Number: 20230824-5112.

Comment Date: 5 p.m. ET 9/14/23.

Docket Numbers: ER23-2323-001.

Applicants: Southwest Power Pool, Inc.

Description: Tariff Amendment: 2900R21 KMEA NITSA NOA to be effective 9/1/2023.

Filed Date: 8/24/23.

Accession Number: 20230824-5123.

Comment Date: 5 p.m. ET 9/14/23.

Docket Numbers: ER23-2326-001.

Applicants: PJM Interconnection, L.L.C.

Description: Tariff Amendment: Amendment to Amended ISA, SA No. 6705; Queue No. AE1-056 in ER23-2326 to be effective 9/1/2023.

Filed Date: 8/24/23.

Accession Number: 20230824-5058.

Comment Date: 5 p.m. ET 9/14/23.

Docket Numbers: ER23-2334-002.

Applicants: Southwest Power Pool, Inc.

Description: Tariff Amendment: 2198R34 Kansas Power Pool NITSA NOA to be effective 9/1/2023.

Filed Date: 8/24/23.

Accession Number: 20230824-5141.

Comment Date: 5 p.m. ET 9/14/23.

Docket Numbers: ER23-2346-000.

Applicants: Oak Ridge Solar, LLC.

Description: Supplement to July 6, 2023, Oak Ridge Solar, LLC tariff filing.

Filed Date: 8/22/23.

Accession Number: 20230822-5172.

Comment Date: 5 p.m. ET 9/1/23.

Docket Numbers: ER23-2440-000.

Applicants: McFarland Solar B, LLC.

Description: Supplement to July 20, 2023, McFarland Solar B, LLC tariff filing.

Filed Date: 8/22/23.

Accession Number: 20230822-5177.

Comment Date: 5 p.m. ET 9/1/23.

Docket Numbers: ER23-2450-000.

Applicants: Great Cove Solar LLC.

Description: Great Cove Solar LLC submits Response to FERC's request for additional information re one of the upstream owners, and Request for shortened 10-day comment period.

Filed Date: 8/22/23.

Accession Number: 20230822-5132.

Comment Date: 5 p.m. ET 9/1/23.

Docket Numbers: ER23-2686-000.

Applicants: California Independent System Operator Corporation.

Description: § 205(d) Rate Filing: 2023-08-22 DAME/EDAM Combined Tariff Amendment to be effective 12/21/2023.

Filed Date: 8/22/23.

Accession Number: 20230822-5161.

Comment Date: 5 p.m. ET 9/21/23.

Docket Numbers: ER23-2691-000.

Applicants: Arizona Public Service Company.

Description: § 205(d) Rate Filing: Rate Schedule No. 314—Amendment No. 2 to be effective 10/23/2023.

Filed Date: 8/23/23.

Accession Number: 20230823-5113.

Comment Date: 5 p.m. ET 9/13/23.

Docket Numbers: ER23-2692-000.

Applicants: Madison Fields Solar Project, LLC.

Description: Baseline eTariff Filing: Reactive Power Compensation Baseline to be effective 12/14/2023.

Filed Date: 8/23/23.

Accession Number: 20230823-5114.

Comment Date: 5 p.m. ET 9/13/23.

Docket Numbers: ER23-2693-000.

Applicants: Interstate Power and Light Company.

Description: Agreement for Consent to Termination of Assignments for Capacity Schedule of Interstate Power and Light Company.

Filed Date: 8/23/23.

Accession Number: 20230823-5117.

Comment Date: 5 p.m. ET 9/13/23.

Docket Numbers: ER23-2694-000.

Applicants: Cereal City Solar, LLC.

Description: Baseline eTariff Filing: Cereal City Solar, LLC Application for Market-Based Rate Authority to be effective 10/23/2023.

Filed Date: 8/23/23.

Accession Number: 20230823-5122.

Comment Date: 5 p.m. ET 9/13/23.

Docket Numbers: ER23-2696-000.

Applicants: Midcontinent Independent System Operator, Inc., Ameren Illinois Company.

Description: § 205(d) Rate Filing: Midcontinent Independent System Operator, Inc. submits tariff filing per 35.13(a)(2)(iii: 2023-08-24_SA 4156 Ameren IL-CWLP TIA to be effective 10/24/2023.

Filed Date: 8/24/23.

Accession Number: 20230824-5037.

Comment Date: 5 p.m. ET 9/14/23.

Docket Numbers: ER23-2697-000.

Applicants: Tri-State Generation and Transmission Association, Inc.

Description: § 205(d) Rate Filing: Amendment to Rate Schedule FERC No. 67 to be effective 10/23/2023.

Filed Date: 8/24/23.

Accession Number: 20230824-5051.

Comment Date: 5 p.m. ET 9/14/23.

Docket Numbers: ER23-2698-000.

Applicants: Tri-State Generation and Transmission Association, Inc.

Description: § 205(d) Rate Filing: Amendment to Rate Schedule FERC No. 31 to be effective 10/23/2023.

Filed Date: 8/24/23.

Accession Number: 20230824-5089.

Comment Date: 5 p.m. ET 9/14/23.

Docket Numbers: ER23-2699-000,

Applicants: MRP Elgin LLC.

Description: Baseline eTariff Filing: MRP Elgin LLC MBR Tariff Application to be effective 8/24/2023.

Filed Date: 8/24/23.

Accession Number: 20230824-5095.

Comment Date: 5 p.m. ET 9/14/23.

Docket Numbers: ER23-2700-000.

Applicants: Puget Sound Energy, Inc.

Description: Puget Sound Energy, Inc. submits Average System Cost Rate Filing for Sales of Electric Power to the Bonneville Power Administration, FY 2024-2025.

Filed Date: 8/24/23.

Accession Number: 20230824-5098.

Comment Date: 5 p.m. ET 9/14/23.

Docket Numbers: ER23-2701-000.

Applicants: MRP Rocky Road LLC.

Description: Baseline eTariff Filing: MRP Rocky Road LLC MBR Tariff Application to be effective 8/24/2023.

Filed Date: 8/24/23.

Accession Number: 20230824-5111.

Comment Date: 5 p.m. ET 9/14/23.

Docket Numbers: ER23-2702-000.

Applicants: Invenergy Nelson Expansion LLC.

Description: Invenergy Nelson Expansion LLC submits Prospective Waiver Request and Expedited Action for an exception from the requirement to offer its capacity into PJM's RPM Third IA for the 2024/25 Delivery Year.

Filed Date: 8/23/23.

Accession Number: 20230823-5142.

Comment Date: 5 p.m. ET 9/13/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 24, 2023.
Debbie-Anne A. Reese,
Deputy Secretary.

[FR Doc. 2023-18745 Filed 8-29-23; 8:45 am]

BILLING CODE 6717-01-P